DEPARTMENT OF TRANSPORTATION

Federal Aviation Administration

14 CFR Part 39

[Docket No. FAA-2006-24110; Directorate Identifier 2006-NM-020-AD; Amendment 39-14508; AD 2006-05-11]

RIN 2120-AA64

Airworthiness Directives; Bombardier Model CL-600-2B19 (Regional Jet Series 100 & 440) Airplanes

AGENCY: Federal Aviation Administration (FAA), Department of Transportation (DOT).

ACTION: Final rule; request for comments.

SUMMARY: The FAA is superseding an existing airworthiness directive (AD) that applies to certain Bombardier Model CL-600-2B19 (Regional Jet Series 100 & 440) airplanes. The existing AD currently requires revising the airworthiness limitations section of the Instructions for Continued Airworthiness of the aircraft maintenance manual (AMM) by incorporating procedures for repetitive functional tests of the pilot input lever of the pitch feel simulator (PFS) units. This AD requires new repetitive functional tests of the pilot input lever of the PFS unit, and corrective actions if necessary. After initiating the new tests, this AD also requires removal of the existing procedures for the repetitive functional tests from the AMM. This AD results from a report that the shear pin located in the input lever of two PFS units failed due to fatigue. We are issuing this AD to prevent undetected failure of the shear pin of both PFS units simultaneously, which could result in loss of pitch feel forces and consequent reduced control of the airplane.

DATES: This AD becomes effective March 27, 2006.

The Director of the Federal Register approved the incorporation by reference of a certain publication listed in the AD as of March 27, 2006.

On February 13, 2004 (69 FR 4234, January 29, 2004), the Director of the Federal Register approved the incorporation by reference of Bombardier Temporary Revision 2B-1784, dated October 24, 2003, to the CL-600-2B19 Canadair Regional Jet Maintenance Requirements Manual, Part 2, Appendix B, “Airworthiness Limitations.”

We must receive any comments on this AD by May 9, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Bombardier, Inc., Canadair, Aerospace Group, P.O. Box 6087, Station Centre-ville, Montreal, Quebec H3C 3G9, Canada, for service information identified in this AD.

You may examine the contents of the AD docket on the Internet at http://dms.dot.gov, or in person at the Docket Management Facility, U.S. Department of Transportation, 400 Seventh Street SW., Room PL-401, on the plaza level of the Nassif Building, Washington, DC. This docket number is FAA-2006-24110; the directorate identifier for this docket is 2006-NM-020-AD.

FOR FURTHER INFORMATION CONTACT: Dan Parrillo, Aerospace Engineer, Systems and Flight Test Branch, ANE-172, New York Aircraft Certification Office, FAA, 1600 Stewart Avenue, Suite 410, Westbury, New York 11590; telephone (516) 228-7305; fax (516) 794-5531.

SUPPLEMENTARY INFORMATION:

Discussion

On January 20, 2004, the FAA issued AD 2004-02-07, amendment 39-13442 (69 FR 4234, January 29, 2004). That AD applies to certain Bombardier Model CL-600-2B19 (Regional Jet Series 100 & 440) airplanes. That AD requires revising the airworthiness limitations section of the Instructions for Continued Airworthiness of the aircraft maintenance manual (AMM) by incorporating procedures for repetitive functional tests of the pilot input lever of the pitch feel simulator (PFS) units. That AD also requires an initial functional test of the pilot input lever of the PFS units, and corrective action if necessary. That AD resulted from a report that the shear pin located in the input lever of two PFS units failed due to fatigue. The actions specified in that AD are intended to prevent undetected failure of the shear pin of both PFS units simultaneously, which could result in loss of pitch feel forces and consequent reduced control of the airplane.

Actions Since AD Was Issued

Since we issued that AD, Transport Canada Civil Aviation (TCCA), which is the airworthiness authority for Canada, has informed us of a delay in developing a terminating modification. TCCA advises that Bombardier is encountering difficulties in developing a new, improved replacement input lever for the PFS units. The resulting delay is increasing the service time on the existing levers (and resulting risk exposure) to a level that is higher than TCCA anticipated when they issued Canadian Airworthiness Directive CF-2003-26, dated November 14, 2003. The delay also results in more airplanes being delivered with the existing lever design. As a consequence, the repetitive interval of the functional test is being reduced to help reduce the risk exposure to a failed input lever and shear pin. Therefore, TCCA superseded and cancelled Canadian Airworthiness Directive CF-2003-26 (which we referenced in AD 2004-02-07 as the parallel Canadian Airworthiness Directive) with Canadian Airworthiness Directive CF-2005-41, dated December 22, 2005. Canadian Airworthiness Directive CF-2005-41 expands the applicability, reduces the repetitive interval of the functional tests, and adds repetitive functional tests of the pilot input lever to determine if the lever is disconnected, in accordance with new service information.

Relevant Service Information

Bombardier has issued Alert Service Bulletin A601R-27-144, Revision A, dated February 14, 2006, including Appendix A, dated September 15, 2005. The alert service bulletin describes procedures for performing repetitive functional tests of the pilot input lever of the PFS units to determine if the lever is disconnected, and corrective actions if necessary. The corrective actions include replacing any defective PFS unit with a serviceable PFS unit, and using the data sheet of Appendix A to submit a test report to Bombardier. TCCA mandated the service information to ensure the continued airworthiness of these airplanes in Canada.

FAA's Determination and Requirements of This AD

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States.

Therefore, we are issuing this AD to supersede AD 2004-02-07. This new AD retains the repetitive functional tests of the existing AD. This AD also requires accomplishing the actions specified in the alert service bulletin described previously. Once the new functional tests are initiated, this AD also requires removal of the existing procedures for the repetitive functional tests from the AMM.

Clarification Between This AD and the Canadian Airworthiness Directive

Canadian airworthiness directive CF-2005-41 references Bombardier Alert Service Bulletin A601R-27-144, including Appendix A, dated September 15, 2005, or later revision approved by TCCA, as the appropriate source of service information for doing the required actions. After TCCA issued that airworthiness directive, Bombardier issued Revision A of the alert service bulletin described previously. Revision A adds an illustration of a cotter pin for the bolt to Figure 1 of the Accomplishment Instructions, and revises two of the steps to include the cotter pin. TCCA subsequently approved Revision A of the alert service bulletin. Therefore, this AD requires actions in accordance with Revision A of the alert service bulletin.

Change to Existing AD

This AD would retain the repetitive functional test requirement of AD 2004-02-07. Since AD 2004-02-07 was issued, the AD format has been revised, and certain paragraphs have been rearranged. As a result, the corresponding paragraph identifier has changed in this AD, as listed in the following table:

Revised Paragraph Identifiers
Requirement in AD 2004-02-07 | Corresponding requirement in this AD
paragraph (a) | paragraph (f)

Interim Action

This AD is considered to be interim action. The reports that are required by this AD will enable the manufacturer to obtain better insight into the nature, cause, and extent of failures of the shear pins of the PFS units, and eventually to develop final action to address the unsafe condition. Once final action has been identified, we may consider further rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-24110; Directorate Identifier 2006-NM-020-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13442 (69 FR 4234, January 29, 2004) and adding the following new AD:

2006-05-11 Bombardier, Inc. (Formerly Canadair): Docket No. FAA-2006-24110; Directorate Identifier 2006-NM-020-AD; Amendment 39-14508.

Effective Date

(a) This AD becomes effective March 27, 2006.

Affected ADs

(b) This AD supersedes AD 2004-02-07.

Applicability

(c) This AD applies to Bombardier Model CL-600-2B19 (Regional Jet Series 100 & 440) airplanes, serial numbers 7003 through 7999 inclusive, and 8000 and subsequent, certificated in any category.

Unsafe Condition

(d) This AD results from a report that the shear pin located in the input lever of two pitch feel stimulator (PFS) units failed due to fatigue. We are issuing this AD to prevent undetected failure of the shear pin of both PFS units simultaneously, which could result in loss of pitch feel forces and consequent reduced control of the airplane.

Compliance

(e) You are responsible for having the actions required by this AD performed within the compliance times specified, unless the actions have already been done.

Restatement of Certain Requirements of AD 2004-02-07

Revise Airworthiness Limitations (AWL) Section of Aircraft Maintenance Manual

(f) For airplanes having serial numbers 7003 through 7999 inclusive: Within 14 days after February 13, 2004 (the effective date of AD 2004-02-07), revise the AWL section of the Instructions for Continued Airworthiness of the aircraft maintenance manual by incorporating the functional check of the PFS pilot input lever, Task R27-31-A024-01, as specified in Bombardier Temporary Revision (TR) 2B-1784, dated October 24, 2003, to the CL-600-2B19 Canadair Regional Jet Maintenance Requirements Manual, Part 2, Appendix B, “Airworthiness Limitations,” into the AWL section.

New Requirements

New Repetitive Functional Tests and Corrective Actions

(g) Before the accumulation of 4,000 total flight hours, or within 100 flight hours after the effective date of this AD, whichever occurs later: Do a functional test of the pilot input lever of the PFS units to determine if the lever is disconnected, in accordance with the Accomplishment Instructions of Bombardier Alert Service Bulletin A601R-27-144, Revision A, dated February 14, 2006, including Appendix A, dated September 15, 2005. Repeat the test at intervals not to exceed 100 flight hours. Before further flight, after performing the initial functional test, remove the procedures for the functional tests specified in paragraph (f) of this AD from the CL-600-2B19 Canadair Regional Jet Maintenance Requirements Manual.

(h) If any lever is found to be disconnected during any functional test required by paragraph (g) of this AD, do the actions specified in paragraphs (h)(1) and (h)(2) of this AD in accordance with the Accomplishment Instructions of Bombardier Alert Service Bulletin A601R-27-144, Revision A, dated February 14, 2006, including Appendix A, dated September 15, 2005.

(1) Before further flight, replace the defective PFS with a serviceable PFS in accordance with the Accomplishment Instructions of the alert service bulletin; and

(2) Within 30 days after removing the defective PFS, submit a test report to the manufacturer in accordance with the Accomplishment Instructions of the alert service bulletin. Under the provisions of the Paperwork Reduction Act (44 U.S.C. 3501 et seq.), the Office of Management and Budget (OMB) has approved the information collection requirements contained in this AD and has assigned OMB Control Number 2120-0056.

Previously Accomplished Actions

(i) Actions done before the effective date of this AD in accordance with Bombardier Alert Service Bulletin A601R-27-144, including Appendix A, dated September 15, 2005, are acceptable for compliance with the requirements of paragraph (g) of this AD.

Alternative Methods of Compliance (AMOCs)

(j)(1) The Manager, New York Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Canadian airworthiness directive CF-2005-41, dated December 22, 2005, also addresses the subject of this AD.

Material Incorporated by Reference

(l) You must use Bombardier Alert Service Bulletin A601R-27-144, Revision A, dated February 14, 2006, including Appendix A, dated September 15, 2005; and Bombardier Temporary Revision 2B-1784, dated October 24, 2003, to the CL-600-2B19 Canadair Regional Jet Maintenance Requirements Manual, Part 2, Appendix B, “Airworthiness Limitations;” as applicable, to perform the actions that are required by this AD, unless the AD specifies otherwise.

(1) The Director of the Federal Register approved the incorporation by reference Bombardier Alert Service Bulletin A601R-27-144, Revision A, dated February 14, 2006, including Appendix A, dated September 15, 2005, in accordance with 5 U.S.C. 552(a) and 1 CFR part 51.

(2) On February 13, 2004 (69 FR 4234, January 29, 2004), the Director of the Federal Register approved the incorporation by reference of Bombardier Temporary Revision 2B-1784, dated October 24, 2003, to the CL-600-2B19 Canadair Regional Jet Maintenance Requirements Manual, Part 2, Appendix B, “Airworthiness Limitations.”

(3) Contact Bombardier, Inc., Canadair, Aerospace Group, P.O. Box 6087, Station Centre-ville, Montreal, Quebec H3C 3G9, Canada, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/ federal_register/code_of_ federal_regulations/ibr_locations.html.

Issued in Renton, Washington, on February 28, 2006.
Kalene C. Yanamura,
Acting Manager, Transport Airplane Directorate, Aircraft Certification Service.

[FR Doc. 06-2236 Filed 3-9-06; 8:45 am]

BILLING CODE 4910-13-P